DEPARTMENT OF THE INTERIOR

Bureau of Indian Affairs

Notice of Intent to Prepare an Environmental Impact Statement for a Proposed Tribal Light Industrial Park, Umatilla Indian Reservation, Umatilla County, OR

AGENCY: Bureau of Indian Affairs, Interior.

ACTION: Notice.

SUMMARY: The Bureau of Indian Affairs (BIA), with the cooperation of the Confederated Tribes of the Umatilla Indian Reservation (CTUIR), intends to gather the information necessary for preparing an Environmental Impact Statement (EIS) for the proposed lease of up to 100 acres of land held in trust by the United States for the benefit of the CTUIR in Umatilla County, Oregon, for the construction and operation of a 400,000 square foot warehouse distribution center or similar sized light manufacturing facility. The purpose of the proposed action is to help meet the economic development needs of the CTUIR. Details on the project location and proposed action are provided in the SUPPLEMENTARY INFORMATION section. This notice also announces a public scoping meeting to identify potential issues to include in the EIS, identify which issues to analyze in depth, and eliminate issues that are not significant.

DATES: Comments on the scope and content of the EIS must arrive by February 7, 2003. The public scoping meeting will be held on Thursday, January 23, 2003, at 6 p.m.

ADDRESSES: You may mail or hand carry written comments to Philip Sanchez, Superintendent, Bureau of Indian Affairs, Umatilla Agency, P.O. Box 520, Pendleton, Oregon 97801.

You may obtain a map displaying the proposed project location from Jerry L. Lauer, Natural Resource Officer, Bureau of Indian Affairs, Umatilla Agency, P.O. Box 520, Pendleton, Oregon 97801, telephone (541) 278-3790.

FOR FURTHER INFORMATION CONTACT: Jerry L. Lauer, (541) 278-3790.

SUPPLEMENTARY INFORMATION: The EIS will assess the environmental consequences of BIA approval of a lease between the developer of a 400,000 square foot warehouse and distribution center or light manufacturing facility (lessee) and the CTUIR (lessor), of parts of the South Half of the North Half and the North Half of the South Half, Section 21, Township 2 North, Range 33 East, Willamette Meridian, Umatilla County, Oregon. The property encompasses approximately 100 acres on the Umatilla Indian Reservation, adjacent to and south of Exit 216 on Interstate 84.

The proposed project has several components. These include construction of below-ground water, sewer, storm water drainage, and electric power service on the site; construction of a 40-foot-wide industrial access road; extension of utilities from current access points north of Interstate 84, including below grade crossing of Interstate 84; construction of a 400,000-square-foot warehouse or light manufacturing facility; and operation of the warehouse or light manufacturing facility with approximately 150 employees. In the case of the warehouse and distribution center, there will be approximately 100 outgoing and 100 inbound semi-trailers each day.

Public Comment Availability

Comments, including names and addresses of respondents, will be available for public review at the mailing address shown in the ADDRESSES section, during regular business hours, 8 a.m. to 5 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.1.

Dated: December 16, 2002.
Neal A. McCaleb,
Assistant Secretary—Indian Affairs.

[FR Doc. 03-428 Filed 1-8-03; 8:45 am]

BILLING CODE 4310-W7-P